DEPARTMENT OF THE INTERIOR

National Park Service

Draft Supplemental Environmental Impact Statement for the Elwha Ecosystem Restoration Implementation Final Environmental Impact Statement, Olympic National Park, Clallam County, WA; Notice of Availability

Summary: Pursuant to § 102 (2)(c) of the National Environmental Policy Act of 1969 (Pub. L. 91-190, as amended) and corresponding Council of Environmental Quality implementing regulations (40 CFR part 1500-1508), the National Park Service, Department of the Interior and its cooperating agencies have completed a draft supplement to the Elwha River Ecosystem Restoration Implementation final environmental impact statement (1996 Implementation EIS). Two dams (built in the early 1900s) block the Elwha River and limit anadromous fish to the lowest 4.9 river miles. A 1996 Implementation EIS (second of two impact statements that examined how best to restore the Elwha River ecosystem and native anadromous fishery in Olympic National Park) selected dam removal as the preferred option and identified a particular set of actions to remove the dams. The release of sediment from behind the dams would result in sometimes severe impacts to water quality or the reliability of supply to downstream users during the dam removal impact period of about 3-5 years, which the Implementation EIS proposed mitigating through a series of specific measures (see below). However, since 1996, when the Record of Decision was signed, new research and changes unrelated to the project have necessitated re-analysis of these measures. The primary purpose of the supplemental EIS (SEIS) is to analyze the impacts of a new set of water quality and supply related mitigation measures.

Background: Elwha Dam was built on the Elwha River in 1911 and Glines Canyon Dam in 1925, limiting anadromous fish to the lowest 4.9 miles of river and blocking access to more than 70 miles of Elwha River mainstem and tributary habitat. The two dams and their associated reservoirs have also inundated and degraded important riverine and terrestrial habitat and severely affected fisheries habitat through increased temperatures, reduced nutrients, the absence of spawning gravels downstream and other changes. Consequently, salmon and steelhead populations in the river have been considerably reduced or eliminated, and the Elwha River ecosystem within Olympic National Park significantly and adversely altered.

In 1992, Congress enacted the Elwha River Ecosystem and Fisheries Restoration Act (Pub. L. 102-495) directing the Secretary of the Interior to fully restore the Elwha river ecosystem and native anadromous fisheries, while at the same time protecting users of the river's water from adverse impacts associated with dam removal. As noted above, the decisions associated with this process indicated removal of both dams was needed to fully restore the ecosystem. Impacts to water quality will result from the release of sediment which has accumulated behind the dams. Impacts to water supply will result from the release of fine sediment (i.e., silts and clays). These sediments can reduce yield by clogging the gravel that overlays subsurface intakes during periods of high turbidities. Increases in flooding or flood stage are also a likely result of dam removal, as sediments would replenish and raise the existing riverbed back to its pre-dam condition.

The 1996 Implementation EIS proposed and analyzed numerous mitigation measures to protect quality and ensure supply for each of the downstream users, which included:

• The installation of an infiltration gallery to collect water filtered from the riverbed;

• Open channel treatment of this water for industrial customers;

• Closure of the state chinook rearing channel during and for years following dam removal, with chinook production transferred to another state facility;

• The installation of a second subsurface Ranney collector on the opposite shore to maintain yield during meander away from the existing collector;

• A temporary “package” treatment plant to filter water from the Ranney wells during dam removal;

• Expansion of the tribal hatchery and of its infiltration gallery and drilling of groundwater wells to facilitate protection and production of Elwha anadromous fish for restoration, and;

• On-site flood protection for the Dry Creek Water Association wellfield, or connection of these users to the Port Angeles water system.

Flood control measures included:

• The development of a mounded septic system on the Lower Elwha K'lallam Reservation; and

• Strengthening and extension of the federal levee and other smaller levees and flood control structures.

Continued study by the cooperating agencies since the 1996 Implementation EIS was finalized revealed the potential for unforeseen difficulties with some of the mitigation facilities, and identified different measures from those analyzed to resolve these difficulties. Further refining of the expected changes in flood stage following the restoring of riverbed sediments also showed they would be higher in some areas of the river and lower in others than the original modeling predicted. In addition, changes in user needs resulting from factors unrelated to the project required a new look at some of the mitigation measures. For example, chinook salmon and bull trout have both been listed as threatened since 1997, resulting in the requirement to keep the state rearing facility open during dam removal. Also, the city of Port Angeles must now meet new standards for the treatment of its municipal supplies. In addition, an industrial customer (Rayonier) which required very high quality water for its operation has since closed. The low-lying lands of the Reservation have also been developed to such a degree since 1996 that a small mounded septic system would not be adequate.

Proposal and Alternatives: Because this is a supplement to an EIS, the team generally analyzed only one action alternative and the No Action alternative for each mitigation facility. The 1996 Implementation EIS is focused on dam removal and sediment management, and analyzes two action alternatives. It, in turn, is tiered to a programmatic EIS, which examined four options and the No Action alternative for restoring the Elwha River ecosystem. Therefore, the supplement examines the most preferable feasible alternative for mitigating impacts to water quality and supply. Only when it remains unclear at this time what the preferred option for a specific mitigation measure is are alternatives presented. This includes providing water for the Dry Creek Water Association, upgrading the tribal hatchery, and providing flood control for the tribal and other residents near the mouth of the river. Alternatives for supplying water to industrial, hatchery and municipal consumers, for treating municipal supply, intake and control weir and tribal wastewater connection to Port Angeles that were not selected for analysis and the reasons for not carrying them further are described in chapter two of the SEIS and in the Elwha River Water Quality Mitigation Project Planning Report (available on the Elwha Web site at http://www.nps.gov/olym/elwha/home.htm).

The proposed action includes the following:

• The use of surface water rather than a subsurface infiltration gallery and additional Ranney well to supply the city's municipal and industrial customers, the tribal hatchery and the state's chinook rearing channel. This change is intended to prevent “blinding”, which research after 1996 found was likely to occur in any kind of subsurface water collecting facility. Blinding clogs and effectively seals the surface with fine sediment for a period of time, and can substantially reduce yield.

• Removal of the existing rock dam and intake structure that currently supplies the city's industrial customers, and replacement with a graded fish riffle and weir structure to pass fish, provide fish habitat and pool water. The existing intake will be replaced.

• A sediment removal facility built in the location of the existing industrial treatment channel on the east bank of the river, which will receive water for treatment from the weir and intake described above. Water from this facility will be sent to industrial customers, and at times to a new water treatment facility during the 3-5 year dam removal impact period.

• A new permanent water treatment facility in Port Angeles adjacent to the city's existing landfill area, which will receive water from the sediment removal facility during and for a period of time following dam removal, and subsequently from the city's existing Ranney collector.

• Flood protection of an existing wellfield, an optional wellfield and connection to the city of Port Angeles supply for Dry Creek Water Association, with an extension to four homeowners in Elwha Heights subdivision.

• Expansion or relocation of the tribal hatchery, with water supplied from the sediment removal facility as described above.

• Maintaining the state chinook rearing channel open during dam removal with water from the sediment removal facility, and creating a rearing pond on nearby Morse Creek as a back-up during dam removal.

• Raising the federal levee an average of 3.3 feet, as compared to 2.5 feet in the 1996 Implementation EIS, and armoring with rock riprap where needed. It would also be lengthened to provide protection near the mouth of the river. Three options for providing additional protection further upstream of the river mouth are examined. These include extending the levee, raising and strengthening the haul road, and using a series of spur dikes and deflection structures. A second levee across the river would also be strengthened, re-aligned along higher ground, or removed and the homes behind it raised.

• The tribe would construct a sewage collection and pumping system and a pipeline to connect to the city of Port Angeles.

• Finally, because economics regarding concrete have changed since 1996, sections removed from Glines Dam will be transported to a private facility to be crushed and recycled.

Each of these facilities is funded wholly or in part by the federal government to the extent that they provide mitigation from the effects of dam removal. Additional funding may be provided by homeowners groups if protection or improvement beyond that resulting directly from dam removal is desired.

The No Action alternative is the same alternative as was discussed in the 1996 Implementation EIS; that is, no dam removal would take place. Because the dams would remain, water and flooding mitigation would not be needed.

Scoping. Public scoping for the SEIS took place in September and October 2002, and six comment letters resulting in twelve comments were received. All scoping comments are addressed in the SEIS (in chapter 5, Consultation and Coordination). In addition to public scoping, the park and its cooperating agencies have also consulted with the U.S. Fish and Wildlife Service and NOAA Fisheries to provide protection and restoration for bull trout and chinook salmon.

Comments: This Supplement to the 1996 Implementation EIS is now available for public review. Interested persons and organizations wishing to express any concerns or comments should send written comments to Dr. Brian Winter, Elwha Project Manager, at 826 East Front Street, Ste. A, Port Angeles, WA 98362; telephone inquiries may be directed to (360) 565-1320. Faxed or electronic transmittals will be accepted also (electronic comments should be sent to Brian_Winter@nps.gov, and faxes may be sent to (360) 565-1325).

Because several public meetings have already taken place on the 1996 Implementation EIS (and the prior Programmatic EIS for dam removal), no additional public meeting for this supplement to discuss mitigation measures is anticipated. Therefore, written comments are the only vehicle for making your opinions and concerns known and a part of the record for this SEIS process. The following options are available: you may request a summary of the SEIS, a full paper copy of the SEIS, a CD of the SEIS and/or a CD of the full 1996 Implementation EIS which the subject document supplements. Those who commented during prior scoping processes will receive a full SEIS and a CD of the FEIS, as will agencies and others on the park mailing list (see chapter 5 of the SEIS). Please specify which of these documents/CDs you would like to receive when calling, e-mailing or faxing the Elwha Project Management Office. Finally, both the SEIS and 1996 Implementation EIS will be posted on the Elwha project Web site at http://www.nps.gov/olym/elwha/home.htm.

All written comments must be postmarked no later than 60 days from the date the Environmental Protection Agency publishes its notice of filing in the Federal Register. Immediately upon confirmation of this date it will be posted on the park's Web site and announced via local and regional media. Please keep in mind that decisions or facts in the 1996 implementation EIS are not subject to public comment at this time. The 1996 Implementation EIS is being made available for background information only, and no response to comments made on the 1996 Implementation EIS during this 60-day review period will be forthcoming in the final SEIS. In other words, decisions associated with dam removal and sediment management have already been made and the information on which they were made has already been publicly reviewed—comments should be confined to information provided in the SEIS only. Be sure to include your complete name and address along with your comments. Please note that names and addresses of people who comment become part of the public record. If individuals commenting request that their name or/and address be withheld from public disclosure, it will be honored to the extent allowable by law. Such requests must be stated prominently in the beginning of the comments. There also may be circumstances wherein the NPS will withhold from the record a respondent's identity, as allowable by law. As always: the NPS will make available to public inspection all submissions from organizations or businesses and from persons identifying themselves as representatives or officials of organizations and businesses; and, anonymous comments may not be considered.

Dated: September 13, 2004.
Patricia L. Neubacher,
Acting Regional Director, Pacific West Region.

[FR Doc. 04-25356 Filed 11-15-04; 8:45 am]

BILLING CODE 4312-JK-P